ENVIRONMENTAL PROTECTION AGENCY

[FRL-6917-4]

Agency Information Collection Activities: Proposed Collection; Comment Request; Control Technology Determinations for Constructed and Reconstructed Major Sources of Hazardous Air Pollutants

AGENCY: Environmental Protection Agency (EPA).

ACTION: Notice.

SUMMARY: In compliance with the Paperwork Reduction Act (44 U.S.C. 3501 et seq.), this document announces that EPA is planning to submit the following proposed and continuing Information Collection Request (ICR) to the Office of Management and Budget (OMB): Control technology determinations for constructed and reconstructed major sources of hazardous air pollutants, EPA ICR #1658.02, OMB #2060-0284, expiration date February 28, 2001. Before submitting the ICR to OMB for review and approval, EPA is soliciting comments on specific aspects of the proposed information collection as described below.

DATES: Comments must be submitted on or before Feburary 13, 2001.

ADDRESSES: Send all comments on this ICR to Ms. Pamela J. Smith, Information Transfer and Program Integration Division (MD-12), Office of Air Quality Planning and Standards, U.S. Environmental Protection Agency, Research Triangle Park, North Carolina 27711. Interested persons may obtain a copy of the ICR without charge by contacting Ms. Smith at (919) 541-0641 or E-mail “smith.pam@epa.gov” and refer to EPA ICR Number 1658.02.

FOR FURTHER INFORMATION CONTACT: Kathy Kaufman at (919) 541-0102 and E-mail “kaufman.kathy@epa.gov.”

SUPPLEMENTARY INFORMATION: Affected Entities: Entities potentially affected by this action are those who must submit an application for a permit to construct or reconstruct a major source of hazardous air pollution, permitting agencies who review the permit applications, and EPA staff who review some permitting authority decisions.

Title: Information Collection Request for 40 CFR Part 63 Regulations Governing Constructed and Reconstructed Major Sources, EPA ICR Number 1658.02, OMB Control Number 2060-0284, Expiration date February 28, 2001.

Abstract: Section 112(g)(2)(B) of the Clean Air Act as amended in 1990 requires that maximum achievable control technology (MACT) standards be met by constructed or reconstructed major sources of hazardous air pollutants. Where no applicable emission limit has been set, the MACT determination shall be made on a case-by-case basis.

In order to receive a construction permit for a constructed or reconstructed major source, the applicant must conduct the necessary research, perform the appropriate analyses and prepare the permit application with documentation to demonstrate that their project meets all applicable statutory and regulatory requirements. Specific activities and requirements are listed and described in the Supporting Statement for the ICR.

Permitting agencies, either State, local or Federal, review the permit application to affirm the proposed constructed or reconstructed major source will comply with the Clean Air Act (Act) and applicable regulations. The permitting Agency then provides for public review of the proposed project and issues the permit based on its consideration of all technical factors and public input. The EPA, more broadly, reviews a fraction of the total applications and audits the State and local programs for their effectiveness. Consequently, information prepared and submitted by the source is essential for the source to receive a permit, and for Federal, State and local environmental agencies to adequately review the permit application and thereby properly administer and manage the section 112(g) programs.

To facilitate adequate public participation, information is submitted by sources as a part of their permit application and should generally be a matter of public record. See sections 165(a)(2) and 110(a)(2)(C), (D), and (F) of the Act. Notwithstanding, to the extent that the information required for the completeness of a permit is proprietary, confidential, or of a nature that it could impair the ability of the source to compete in the marketplace, that information is collected and handled according to EPA's policies set forth in title 40, chapter 1, part 2, subpart B—Confidentiality of Business Information (see 40 CFR part 2). See also section 114(c) of the Act.

An agency may not conduct or sponsor, and a person is not required to respond to, a collection of information unless it displays a currently valid OMB control number. The OMB control numbers for EPA's regulations are listed in 40 CFR part 9 and 48 CFR chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The reporting and recordkeeping burden was estimated as follows:

Number of Respondents: 3877.

Frequency of Response: 1 per respondent.

Burden hours per response:

Industry: 150 hours.

Permitting Agencies: 80 hours.

Estimated total annual hour burden:

Industry: 581,521 hours.

Permitting Agencies: 310,144 hours.

Estimated Annualized Cost Burden: $6750. per response.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: December 4, 2000.
Steven J. Hitte,
Acting Director, Information Transfer and Program Integration Division.

[FR Doc. 00-32032 Filed 12-14-00; 8:45 am]

BILLING CODE 6560-50-P